DEPARTMENT OF COMMERCE

International Trade Administration

[A-122-814]

Pure Magnesium From Canada; Preliminary Results of Antidumping Duty Administrative Review, Partial Rescission of Review, and Notice of Intent Not To Revoke Order in Part

AGENCY: Import Administration, International Trade Administration, Department of Commerce.

ACTION: Notice of preliminary results of 2000-2001 administrative review and intent not to revoke.

SUMMARY: The Department of Commerce is conducting an administrative review of the antidumping duty order on pure magnesium from Canada. The period of review is August 1, 2000, through July 31, 2001. This review covers imports of pure magnesium from one producer/exporter.

We have preliminarily found that sales of subject merchandise have not been made below normal value. We have also preliminarily determined not to revoke the order with respect to pure magnesium from Canada produced by Norsk Hydro Canada, Inc. If these preliminary results are adopted in our final results, we will instruct the Customs Service not to assess antidumping duties.

Interested parties are invited to comment on these preliminary results. We will issue the final results not later than 120 days from the date of publication of this notice.

EFFECTIVE DATE: September 9, 2002.

FOR FURTHER INFORMATION CONTACT: Jarrod Goldfeder or Scott Holland, Import Administration, International Trade Administration, U.S. Department of Commerce, 14th Street and Constitution Avenue, NW., Washington DC 20230; telephone (202) 482-0189 or (202) 482-1279, respectively.

The Applicable Statute and Regulations

Unless otherwise indicated, all citations to the statute are references to the provisions effective January 1, 1995, the effective date of the amendments made to the Tariff Act of 1930 (“the Act”) by the Uruguay Round Agreements Act. In addition, unless otherwise indicated, all citations to the Department of Commerce's (“the Department's”) regulations refer to 19 CFR part 351 (2001).

Background

On August 31, 1992, the Department published in the Federal Register (57 FR 39390) an antidumping duty order on pure magnesium from Canada. On August 1, 2001, the Department published a notice in the Federal Register (66 FR 39729) of “Opportunity to Request an Administrative Review” of this order. On August 31, 2001, Magnesium Corporation of America (the “petitioner”) requested an administrative review of imports of the subject merchandise produced by Norsk Hydro Canada, Inc. (“NHCI”), and Magnola Metallurgy Inc. (“Magnola”). On August 31, 2001, NCHI made a similar request for review and also requested that the Department revoke the antidumping duty order. On October 1, 2001, the Department published a notice in the Federal Register (66 FR 49924) initiating the review for the period August 1, 2000, through July 31, 2001.

On October 10, 2001, we issued antidumping questionnaires to NHCI and Magnola. On October 29, 2001, NHCI requested to limit reporting of home market sales to the six-month period July 1 through December 31, 2000. On October 31, 2001, in accordance with 19 CFR 351.414(e)(2)(ii) and 19 CFR 351.414(e)(2)(iii), we granted NHCI's request to limit the reporting of home market sales.

On November 16, 2001, Magnola reported that it had no shipments of subject merchandise to the United States during the August 1, 2000, through July 31, 2001, period of review (“POR”). See “Partial Rescission” section, below.

On November 26, 2001, we received NHCI's questionnaire response. On February 27, 2002, we issued a supplemental questionnaire to NHCI and received the response on March 13, 2002.

On December 12, 2001, in accordance with 19 CFR 351.301(d)(2)(ii), the petitioner filed an allegation that NHCI had made sales below the cost of production (“COP”) during the POR. NHCI submitted an objection to the allegation on December 21, 2002. On January 9, 2002, the petitioner filed a reply to NHCI's objections. We found that the petitioner did not provide a reasonable basis to believe or suspect that NHCI is selling pure magnesium in the United States at prices below the COP. See Memorandum from Team to Susan Kuhbach, “Allegation of Sales Below Cost of Production,” dated February 25, 2002. Accordingly, we did not initiate a sales-below-COP investigation.

On April 15, 2002, in accordance with section 751(a)(3)(A) of the Act, the Department published a notice in the Federal Register (67 FR 18173) extending the time limit for the completion of the preliminary results in this case by 120 days (i.e., until no later than September 3, 2002).

On July 16, 2002, we received notification that U.S. Magnesium, LLC (“U.S. Magnesium”), had become the successor-in-interest to the petitioner, Magnesium Corporation of America, for the purpose of this antidumping proceeding.

Scope of the Order

The product covered by this order is pure magnesium. Pure unwrought magnesium contains at least 99.8 percent magnesium by weight and is sold in various slab and ingot forms and sizes. Granular and secondary magnesium are excluded from the scope currently classifiable under subheading 8104.11.0000 of the Harmonized Tariff Schedule (“HTS”). The HTS item number is provided for convenience and for customs purposes. The written description remains dispositive.

Verification

As provided in section 782(i) of the Act, in July 2002, we verified information provided by NHCI using standard verification procedures, including on-site inspection of the manufacturer's facilities, examination of relevant sales and financial records, and selection of original documentation containing relevant information. The Department reported its findings at the sales verification on September 3, 2002.

Partial Rescission

In accordance with 19 CFR 351.213(d)(3), we are rescinding this review with respect to Magnola, which reported that it made no shipments of subject merchandise during this POR. We examined shipment data furnished by the Customs Service and are satisfied that the record does not indicate that there were U.S. shipments of subject merchandise from Magnola during the POR.

Export Price

For sales to the United States, we used export price (“EP”), as defined in section 772(a) of the Act, because the merchandise was sold directly to the first unaffiliated purchaser in the United States prior to importation. The use of constructed export prices was not warranted based on the facts of the record. EP was based on the packed price to unaffiliated purchasers in the United States. We made deductions, consistent with section 772(c)(2)(A) of the Act, for the following movement expenses: inland freight from the plant to the distribution warehouse, pre-sale warehousing expense, inland freight from the distribution warehouse to the unaffiliated customer, and foreign brokerage and handling.

Normal Value

In order to determine whether there was a sufficient volume of sales of pure magnesium in the home market to serve as a viable basis for calculating NV, we compared NHCI's volume of home market sales of the foreign like product to the volume of U.S. sales of the subject merchandise, in accordance with section 773(a) of the Act. Because the aggregate volume of home market sales of the foreign like product was greater than five percent of the respective aggregate volume of U.S. sales for the subject merchandise, we determined that the home market provided a viable basis for calculating NV. Therefore, in accordance with section 773(a)(1)(B)(i) of the Act, we based NV on the prices at which the foreign like product was first sold for consumption in the exporting country, in the usual commercial quantities and in the ordinary course of trade.

We calculated NV based on the price to unaffiliated customers. We adjusted the price for billing adjustments. We made adjustments for differences in packing in accordance with sections 773(a)(6)(A) and 773(a)(6)(B)(i) of the Act. We also made adjustments, consistent with section 773(a)(6)(B)(ii) of the Act, for the following movement expenses: inland freight from the plant to the distribution warehouse, warehousing expense, and inland freight from the plant/warehouse to the customer. In addition, we made adjustments for differences in circumstances of sale (“COS”) in accordance with section 773(a)(6)(C)(iii) of the Act and 19 CFR 351.410. We made COS adjustments by deducting direct selling expenses incurred on home market sales (credit expenses) and adding U.S. direct selling expenses (credit expenses).

Revocation

The Department may revoke, in whole or in part, an antidumping duty order upon completion of a review under section 751 of the Act. While Congress has not specified the procedures that the Department must follow in revoking an order, the Department has developed a procedure for revocation that is described in 19 CFR 351.222. This regulation requires, inter alia, that a company requesting revocation must submit the following: (1) A certification that the company has sold the subject merchandise at not less than NV in the current review period and that the company will not sell at less than NV in the future; (2) a certification that the company sold the subject merchandise in each of the three years forming the basis of the request in commercial quantities; and (3) an agreement to reinstatement of the order if the Department concludes that the company, subsequent to the revocation, sold subject merchandise at less than NV. See 19 CFR 351.222(e)(1).

According to 19 CFR 351.222(b)(2), upon receipt of such a request, the Department may revoke an order, in part, if it concludes that (1) the company in question has sold subject merchandise at not less than NV for a period of at least three consecutive years; (2) the continued application of the antidumping duty order is not otherwise necessary to offset dumping; and (3) the company has agreed to the immediate reinstatement of the order if the Department concludes that the company, subsequent to the revocation, sold subject merchandise at less than NV.

Pursuant to 19 CFR 351.222(e)(1), NHCI requested revocation of the antidumping duty order. The request was accompanied by certifications that NHCI had not sold the subject merchandise at less than NV during the current period of review and would not do so in the future. NHCI certified that it sold the subject merchandise to the United States in commercial quantities for a period of at least three consecutive years. NHCI also agreed to immediate reinstatement of the antidumping duty order, as long as any exporter or producer is subject to the order, if the Department concludes that NHCI sold the subject merchandise at less than normal value subsequent to the revocation.

We must determine, as a threshold matter, in accordance with 19 CFR 351.222 whether the company requesting revocation sold the subject merchandise in commercial quantities in each of the three years forming the basis of the request. After consideration of the information and arguments on the record of this review, we preliminarily determine that NHCI did not sell the subject merchandise in the United States in commercial quantities during the current review period. See the Memorandum from Team to Richard W. Moreland, “Commercial Quantities,” dated September 3, 2002, for a discussion of NHCI's selling activity. Because NHCI did not make sales in commercial quantities during at least one of the three years cited by NHCI to support its request for revocation, we do not need to examine whether NHCI made sales in commercial quantities in either of the other two years underlying its request for revocation. Accordingly, we preliminarily find that NHCI does not qualify for revocation of the order on pure magnesium pursuant to 19 CFR 351.222(e)(1)(ii).

Preliminary Results of the Review

As a result of this review, we preliminarily determine that NHCI's margin for the period August 1, 2000, through July 31, 2001, is zero.

Any interested party may request a hearing within 30 days of publication of this notice. Any hearing, if requested, will be held 42 days after the publication of this notice, or the first workday thereafter. Issues raised in the hearing will be limited to those raised in the case and rebuttal briefs. Interested parties may submit case briefs within 30 days of the date of publication of this notice. Rebuttal briefs, which must be limited to issues raised in the case briefs, may be filed not later than 35 days after the date of publication of this notice. Parties who submit case briefs or rebuttal briefs in this proceeding are requested to submit with each argument (1) a statement of the issue and (2) a brief summary of the argument with an electronic version included.

The Department will issue the final results of this administrative review, including the results of its analysis of issues raised in any such written briefs or hearing, within 120 days of publication of these preliminary results.

Assessment Rates and Cash Deposit Requirements

Upon completion of this administrative review, the Department will determine, and the Customs Service shall assess, antidumping duties on all appropriate entries. In accordance with 19 CFR 351.212(b)(1), we have calculated an exporter/importer (or customer)-specific assessment rate for merchandise subject to this review. The Department will issue appropriate assessment instructions directly to the Customs Service within 15 days of publication of the final results of review. If these preliminary results are adopted in the final results of review, we will direct the Customs Service to assess the resulting assessment rates against the entered customs values for the subject merchandise on each of the importer's/customer's entries during the review period.

The following deposit requirements will be effective upon completion of the final results of this administrative review for all shipments of pure magnesium from Canada entered, or withdrawn from warehouse, for consumption on or after the publication date of the final results of this administrative review, as provided by section 751(a)(1) of the Act: (1) The cash deposit rate for the reviewed company will be the rate established in the final results of this administrative review (except no cash deposit will be required for the company if its weighted-average margin is de minimis, i.e., less than 0.5 percent); (2) for merchandise exported by manufacturers or exporters not covered in this review but covered in the original less-than-fair-value investigation or a previous review, the cash deposit will continue to be the most recent rate published in the final determination or final results for which the manufacturer or exporter received an individual rate; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 21 percent, the “all others” rate established in Pure Magnesium from Canada; Amendment of Final Determination of Sales At Less Than Fair Value and Order in Accordance With Decision on Remand (58 FR 62643, November 29, 1993).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: September 3, 2002.
Faryar Shirzad,
Assistant Secretary for Import Administration.

[FR Doc. 02-22843 Filed 9-6-02; 8:45 am]

BILLING CODE 3510-DS-P